SMALL BUSINESS ADMINISTRATION

[License No. 09/79-0455]

Rembrandt Venture Partners II, L.P.; Notice Seeking Exemption Under Section 312 of the Small Business Investment Act, Conflicts of Interest

Notice is hereby given that Rembrandt Venture Partners II, L.P., 2200 Sand Hill Road, Suite 160, Menlo Park, CA 94025, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Rembrandt Venture Partners II, L.P. proposes to provide equity/debt security financing to MetaLINCS Corporation. The financing is contemplated for operating expenses and for general corporate purposes.

The financing is brought within the purview of § 107.730(a)(1) of the Regulations because Jerry Casilli, Richard Ling and Greg Eaton, all Associates of Rembrandt Venture Partners II, L.P., own more than ten percent of MetaLINCS Corporation.

Notice is hereby given that any interested person may submit written comments on the transaction to the Associate Administrator for Investment, U.S. Small Business Administration, 409 Third Street, SW., Washington, DC 20416.

Dated:
Jaime Guzman-Fournier,
Acting Associate Administrator for Investment.

[FR Doc. 04-27477 Filed 12-15-04; 8:45 am]

BILLING CODE 8025-01-P